OFFICE OF MANAGEMENT AND BUDGET

Amending Federal Financial Assistance-Related Forms To Include Universal Identifier

AGENCY: Office of Federal Financial Management and Office of Information and Regulatory Affairs, Office of Management and Budget.

ACTION: Final Notice.

SUMMARY: The Office of Management and Budget (OMB) has issued a memorandum authorizing each Federal agency to add a field for the applicant's Dun and Bradstreet Data Universal Numbering System (DUNS) number to application forms for types of Federal financial assistance that are subject to the Federal Funding Accountability and Transparency Act of 2006 (Pub. L. 109-282, “the Transparency Act”). The OMB memorandum broadens the effect of a policy issued in 2003, which authorized agencies to include a DUNS number field in applications for grants and cooperative agreements. It broadens the 2003 policy to other forms of Federal financial assistance subject to the Transparency Act, including loans and subawards. The additional authority is needed in order for agencies to implement the requirements of the Transparency Act.

FOR FURTHER INFORMATION CONTACT: Marguerite Pridgen, Office of Federal Financial Management, Office of Management and Budget, 725 17th Street, NW., Washington, DC 20503; telephone 202-395-7844; fax 202-395-3952.

Authority: Sec. 2, Pub. L. 109-282, 102 Stat. 1186.

SUPPLEMENTARY INFORMATION:

I. Background

On August 2, 2007 [72 FR 42444], OMB proposed to authorize Federal agencies to add a field for the DUNS numbers of applicants other than individual persons to Federal financial assistance application forms that were previously approved by OMB. The purpose of the proposal was to allow agencies to comply with the reporting requirements of the Transparency Act.

The Transparency Act requires OMB to ensure the existence and operation of a Web site at which the public can access and search data on Federal financial assistance awards (note that the Web site has been established at http://www.usaspending.gov). A universal identifier for the award recipient is one of the data elements for each award that the Act requires to be available at the Web site. In implementing the Act, OMB established the DUNS number as the universal identifier that would be used. Therefore, an agency must be able to collect DUNS numbers for recipients in order to be able to comply with the Act, and collecting them in the application is the most efficient way to do that.

Prior to the August 2007 proposal, there was authority in a 2003 OMB policy issuance for agencies to collect DUNS numbers in applications for grants and cooperative agreements. Therefore, the proposal in the Federal Register notice in August was to broaden the earlier policy so that it also would apply to other forms of Federal financial assistance subject to the Transparency Act and not just to grants and cooperative agreements.

II. Comment and Response

OMB received one public comment in response to the August 2, 2007, proposal in the Federal Register. The comment was considered in developing this final version of the update to the 2003 OMB policy. The comment and our response are summarized in the following paragraphs.

Comment: A business commented that it was having difficulty obtaining a DUNS Number and expressed concern about associated fees.

Response: There is no fee associated with obtaining a DUNS Number through Dun and Bradstreet's Web site or toll-free phone number. To assist Federal contractors and grant recipients with entities obtaining a DUNS Number, Dun and Bradstreet maintains a Web site with general information at http://fedgov.dnb.com/webform/displayHomePage.do;jsessionid=735D9C974C65C66AEE38AD278154DBDA.

III. Next Steps

The OMB memorandum is an interim measure, pending issuance of more permanent policy for Transparency Act reporting requirements. In the document following this one in this section of today's Federal Register, we are proposing guidance to Federal agencies that would be issued in title 2 of the Code of Federal Regulations. The proposed guidance covers collection of DUNS numbers from applicants as part of a larger set of actions implementing the Transparency Act for Federal financial assistance. When the guidance is issued in final form, we therefore anticipate that it will supersede the memorandum to agencies described in this notice, as well as the 2003 policy issuance on use of DUNS numbers for grants and cooperative agreements.

Because the Transparency Act applies to Federal procurement, as well as Federal financial assistance, a final point to note is that the memorandum described in this notice applies only to Federal financial assistance. The implementation of the Transparency Act as it applies to Federal procurement contracts, purchase orders, task orders, and delivery orders is separately addressed by Federal Acquisition Regulation issuances under the purview of the Civilian Agency Acquisition Council and Defense Acquisition Regulations Council.

Danny Werfel,
Deputy Controller.

[FR Doc. E8-12560 Filed 6-5-08; 8:45 am]

BILLING CODE 3110-01-P